Title 3—

The President

Memorandum of June 3, 2004

Command and Control of National Guard for 2004 Group of Eight (“G8”) Summit

Memorandum for the Secretary of Defense

By the authority vested in me as President by the Constitution and the laws of the United States, including section 301 of title 3, United States Code, I hereby delegate to you the functions and authority of the President contained in section 325 of title 32, United States Code, with respect to activities related to the G8 Summit.

You are further authorized and directed to make necessary arrangements to fund this activity from the proper appropriation and to publish this memorandum in the Federal Register.

B

THE WHITE HOUSE,

Washington, June 3, 2004.

[FR Doc. 04-13344

Filed 6-9-04; 9:04 am]

Billing code 5001-06-M